DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on January 9, 2008, Vol. 73, No. 6, Pages 1666-1667.

DATES: Comments must be submitted on or before May 5, 2008

FOR FURTHER INFORMATION CONTACT: Susan Ryan at the National Highway Traffic Safety Administration, Office of Regional Operations and Program Delivery (NTI-200), 202-366-2715, 1200 New Jersey Avenue, SE., Washington, DC 20590.

SUPPLEMENTARY INFORMATION:

National Highway Traffic Safety Administration

Title: Highway Safety Program Cost Summary and 23 CFR Part 1345, Occupant Protection Incentive Grant, Section 405.

OMB Numbers: 2127-0003; 2127-0600.

Type of Request: Extension to a previously approved collection of information.

Abstract: The Highway Safety Plan identifies state's traffic safety problems and describes the program and projects to address those problems. In order to account for funds expended, States are required to submit a HS-217 Highway Safety Program Cost Summary. The Program Cost Summary is completed to reflect the state's proposed allocations of funds (including carry-forward funds) by program area, based on the projects and activities identified in the Highway Safety Plan.

An occupant protection incentive grant (Section 405) is available to states that can demonstrate compliance with at least four of six criteria. Demonstration of compliance requires submission of copies of relevant seat belt and child passenger protection statutes, plan and/or reports on statewide seatbelt enforcement and child seat education programs and possible some traffic court records.

Affected Public: For the Highway Cost Summary the public is the 50 states, District of Columbia, Puerto Rico, U.S. Territories, and Tribal Government. For the Section 405 grant program the public is the 50 states, the District of Columbia, Puerto Rico, American Samoa, Guam, Northern Marianas and the Virgin Islands.

Estimated Total Annual Burden: 570 and 780 respectively.

Address: Send comments, within 30 days, to the Office of Information and Regulatory Affairs, Office of Management and Budget, 725-17th Street, NW., Washington, DC 20503, Attention: NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A comment to OMB is most effective if OMB receives it within 30 days of publication.

John F. Oates,
Acting Associate Administrator for Regional Operations and Program Delivery.

[FR Doc. E8-6856 Filed 4-2-08; 8:45 am]

BILLING CODE 4910-59-P